ENVIRONMENTAL PROTECTION AGENCY

[ER-FRL-6622-6]

Environmental Impact Statements; Notice of Availability

Responsible Agency: Office of Federal Activities, General Information (202) 564-7167 or www.epa.gov/ocea/ofa

Weekly receipt of Environmental Impact

Statements Filed October 1, 2001 Through October 5, 2001

Pursuant to 40 CFR 1506.9.

EIS No. 010372, Draft EIS, AFS, ID, Garnet Stars and Sands Project, To Test and Develop Future Recreational Garnet, Idaho Panhandle National Forests, St. Joe Ranger District, Latah, Shoshone and Benewah Counties, ID, Comment Period Ends: November 26, 2001, Contact: Tracy Gravelle (208) 765-7223. This document is available on the Internet at: http://www.ferc.fed.us/online/htm.

EIS No. 010373, Draft EIS, AFS, AZ, Buck Springs Range Allotment Rangeland Management, Implementation, Blue Ridge Coconino National Forest, Coconino County, AZ, Comment Period Ends: November 26, 2001, Contact: Larry G. Sears (928) 477-2255.

EIS No. 010374, Final EIS, NPS, MN, Voyageurs National Park General Management, Visitor Use and Facilities Plans, Implementation, Koochiching and St. Louis Counties, MN, Wait Period Ends: November 13, 2001, Contact: Michael Madell (608) 441-5600.

EIS No. 010375, Draft EIS, NPS, AZ, Sunset Crater Volcano National Monument, General Management Plan, Implementation, Flagstaff Area, Coconina County, AZ, Comment Period Ends: November 26, 2001, Contact: Sam Henderson (520) 526-1157.

EIS No. 010376, Draft EIS, NPS, AZ, Wupatki National Monument, General Management Plan, Implementation, Flagstaff Area, Coconina County, AZ, Comment Period Ends: November 26, 2001, Contact: Sam Henderson (520) 526-1157.

EIS No. 010377, Draft EIS, NPS, AZ, Walnut Canyon National Monument, General Management Plan, Implementation, Flagstaff Area, Coconina County, AZ, Comment Period Ends: November 26, 2001, Contact: Sam Henderson (520) 526-1157.

EIS No. 010378, Final EIS, AFS, CO, Forest Development Trail (FDT) 1135 (Arapho Ridge Trail), Forest Development Road (FDR) 711.1 and FDR 711.1A Motorized or Non-Motorized Determination and Trailhead Parking Areas Creation at both ends of the Trail, Routt National Forest, Jackson County, CO, Wait Period Ends: November 13, 2001, Contact: Melissa Martin (307) 745-2371.

EIS No. 010379, Final EIS, FRC, PA, NJ, NY, Millennium Pipeline Project, Construct and Operate an Interstate Natural Gas Pipeline from United States to Canada, including PA, NY and NJ, Wait Period Ends: November 13, 2001, Contact: Paul McKee (202) 208-1611.

EIS No. 010380, Final EIS, AFS, NM, Santa Fe National Forest, Santa Fe Municipal Watershed Project, Servere Crown Fire Reduction and Sustainable Forest and Watershed Conditions Restoration, Implementation, Pecos Wilderness to Cochitti Lake, Santa Fe National Forest, Santa Fe County, NM, Wait Period Ends: November 13, 2001, Contact: John Bruin (505) 438-7872.

EIS No. 010381, Draft Supplement, COE, FL, Cape Sable Seaside Sparrow Protection, Interim Operating Plan (IOP), Updated Information on a New Alternative 7 for Emergency Sparrow Protection Actions, Implementation, Everglades National Park, Miami-Dade County, FL, Comment Period Ends: November 26, 2001, Contact: Jon Moulding (904) 232-2286.

EIS No. 010382, Final EIS, AFS, OR, Deep Vegetation Management Project, Implementation, Ochoco National Forest, Paulina Ranger District, Crook and Wheeler Counties, OR , Wait Period Ends: November 13, 2001, Contact: Lori Blackburn (541) 477-6900.

EIS No. 010383, Draft EIS, NOA, CA, Goat Canyon Watershed Enhancement Project, Design, Construction Operation and Long-Term Maintenance, Tijuana River Estuary, City and County of San Diego, CA, Comment Period Ends: November 26, 2001, Contact: Steve Kokkinakis (202) 482-5181.

EIS No. 010384, Final EIS, FAA, KY, Cincinnati/Northern Kentucky International Airport, Construction and Operation of a New 8,000-foot Runway 17/35 (Future 18R/36L); 2,000-foot Extension of Runway 9/27, Funding and Airport Layout Plan, (ALP) Boone County, KY , Wait Period Ends: November 13, 2001, Contact: Peggy S. Kelly (901) 544-3495.

Amended Notices

EIS No. 010305, Draft Supplement, FAA, MN, Flying Cloud Airport, Substantive Changes to Alternatives and New Information, Extension of the Runways 9R/27L and 9L/27R, Long-Term Comprehensive Development, In the City of Eden Prairie, Hennepin County, MN, Comment Period Ends: October 9, 2001, Contact: Glen Orcutt (612) 713-4354. Revision of FR Notice Published on 8/24/2001: CEQ Comment Period Ending 10/9/2001 has been extended to 11/5/2001.

EIS No. 010354, Final EIS, FHW, VA, Coalfields Expressway Location Study, Improvements from Route 23 near Pound, VA to the WV State Line east of Slate, VA, Funding and COE Section 404 Permit, Wise, Dickerson and Buchanan Counties, VA, Comment Period Ends: November 5, 2001, Contact: Roberto Fonseca-Martinez (804) 775-3320. Revision of FR notice published on 09/28/2001: CEQ Comment Period Ending 10/29/2001 has been Corrected to 11/5/2001.

EIS No. 010366, Draft EIS, AFS, OR, Umpqua National Forest, Land and Resource Management Plan, Implementation, Lane, Douglas and Jackson Counties, OR, Comment Period Ends: November 19, 2001, Contact: Patrick S. William (541) 498-2531. Revision of FR notice published on 10/5/2001: CEQ Due Date Corrected from 11/19/2001 to 11/26/2001.

Dated: October 9, 2001.
Joseph C. Montgomery,
Director, NEPA Compliance Division, Office of Federal Activities.

[FR Doc. 01-25714 Filed 10-11-01; 8:45 am]

BILLING CODE 6560-50-P